DEPARTMENT OF THE INTERIOR

National Park Service

[NPS-WASO-NAGPRA-10347; 2200-1100-665]

Notice of Inventory Completion: University of California, Santa Barbara, Repository of Archaeological and Ethnographic Collections, Santa Barbara, CA

AGENCY: National Park Service, Interior.

ACTION: Notice.

SUMMARY: The University of California, Santa Barbara (UCSB), has completed an inventory of human remains and associated funerary objects, in consultation with the appropriate Indian tribe, and has determined that there is a cultural affiliation between the human remains and associated funerary objects and a present-day Indian tribe. Representatives of any Indian tribe that believes itself to be culturally affiliated with the human remains and associated funerary objects may contact the UCSB. Repatriation of the human remains and associated funerary objects to the Indian tribe stated below may occur if no additional claimants come forward.

DATES: Representatives of any Indian tribe that believes it has a cultural affiliation with the human remains and associated funerary objects should contact the UCSB, at the address below by July 12, 2012.

ADDRESSES: Dr. Lynn Gamble, University of California, Santa Barbara, Santa Barbara, CA 93106-3210, telephone (805) 893-7341.

SUPPLEMENTARY INFORMATION: Notice is here given in accordance with the Native American Graves Protection and Repatriation Act (NAGPRA), 25 U.S.C. 3003, of the completion of an inventory of human remains and associated funerary objects in the possession and control of the UCSB, Repository for Archaeological and Ethnographic Collections, Santa Barbara, CA. The human remains and associated artifacts were removed from Kern, Los Angeles, and Santa Barbara Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the UCSB professional staff in consultation with representatives of the Santa Ynez Band of Chumash Mission Indians of the Santa Ynez Reservation, California, as well as non-Federally recognized Chumash Indian groups. Consultation began in 1991 with the formation of the UCSB Committee on Repatriation of Human Remains and Cultural Items. The committee's members included the NAGPRA representative of the Santa Ynez Band of Mission Indians and Chumash descendants who are not members of Federally recognized tribes. Over 100 letters were sent to tribal leaders, members of the Native American community, and other interested parties to inform them about the nature of UCSB's collections and the repatriation process. The committee reviewed the data collected during the inventory and used this information to make determinations of cultural affiliation. A more recent consultation took place with the Elder's Council of the Santa Ynez Band of Mission Indians in May of 2011 to inform the Chumash on the completion of the inventory.

History and Description of the Remains

In 1977, human remains representing a minimum of one individual from Burial 1 were removed from CA-KER-307, also known as the Castac Chumash village of Kashtiq, on the banks of Castac Lake, Kern County, CA, by David Jennings of Los Angeles Community College (Accession 212). No known individual was identified. The one associated funerary object is one lot of asphaltum basketry impressions, which was physically associated with Burial 1.

A single radiocarbon date from site CA-KER-307 indicates that it was occupied by A.D. 1545. It is not known whether the site was occupied in earlier periods. Site CA-KER-307 is the site designation for the Castac Chumash village of Kashtiq. The Castac Chumash region is located in the northeastern sector of the territory occupied by Chumash speakers at the time of European Contact.

At an unknown time, human remains representing a minimum of one individual were removed from Deer Creek near Malibu, Los Angeles County, CA, by Charles Rozaire of the Los Angeles County Museum. During an unknown year, the UCSB came into the possession of the human remains (Accession 520). No primary documentation or specific provenience information exists for the human remains. No known individual was identified. No associated funerary objects are present.

The age of the human remains is unknown. Although the collection lacks provenience information, considering the nature of the rest of the UCSB's collection, it is unlikely that the human remains are derived from a non-Chumash site. Therefore, the preponderance of the evidence suggests that the human remains are culturally affiliated with the Chumash.

In 1958 and 1959, human remains representing a minimum of 14 individuals in 11 distinct burials were removed from CA-SBA-1C (SBA-119) at Rincon Point, Santa Barbara County, CA, by W. Harrison and P. Lyons with the permission of the private land owner, as part of W. Harrison's doctorate dissertation research at the University or Arizona, Tucson, AZ (Accession 104). No known individuals were identified. The approximately 479 associated funerary objects are 1 mortar, 1 “killed” mortar, 31 ground stone fragments, 1 metate, 2 manos, 5 utilized pebbles, 1 stone bowl, 4 stone projectile points (1 obsidian), 162 flakes, 5 ochre fragments, 1 quartz crystal, 157 unmodified olivella shells, 68 olivella beads, 3 clam shells, 4 abalone shell fragments, 17 bone projectile points, 3 turtle shells, 4 bird claws, 4 asphaltum impressions, 1 asphaltum fragment with embedded shark teeth, and 4 asphaltum fragments, which were all physically associated with the 11 burials at the time of excavation.

The human remains were removed from 11 burials and date to the Early and Middle periods (2000-600 B.C.). According to historic accounts, the Barbara Chumash village of Shuku was located at Rincon Point.

In 1958 and 1959, human remains representing a minimum of one individual from Burial 2 were excavated from CA-SBA-1D (SBA-141), Rincon Point, Santa Barbara County, CA, by W. Harrison and P. Lyons, as part of Harrison's doctorate dissertation research (Accession 126). No known individual was identified. The 22 associated funerary objects are 4 metate fragments, 4 grinding slabs, 2 manos, 1 mano/hammerstone, 3 mano fragments, 6 ground stone objects, 1 chert core, and 1 rubbing stone which were all physically associated with Burial 2 at the time of excavation.

The human remains from this loci (SBA-1D) date from the Early period (3000-2000 B.C.).

In or around 1928, human remains representing a minimum of 10 individuals were removed from CA-SBA-28, Santa Barbara County, CA, by J.P. Harrington, as part of a project conducted by the Museum of the American Indian, Heye Foundation. The collection was donated by W. Harrington to San Diego State University. In 1970, the collection was donated to the UCSB (Accession 227). No known individuals were identified. No associated funerary objects are present.

According to historic records, site C-SBA-28 is the location of the Barbareno Chumash village of Syuxtun. The age of the human remains is not known.

At an unknown date, human remains representing a minimum of one individual were removed from site CA-SBA-37, on the Atascadero Creek, east of Santa Barbara, Santa Barbara County, CA. At an unknown date, the human remains were donated to the UCSB by D.E. Brown (Accession 210). The human remains originated from where Brown's residence is located. No known individual was identified. No associated funerary objects are present.

Site CA-SBA-37 is a prehistoric shell midden; however, the age of the human remains is unknown. No radiocarbon dates are available to document the age of occupation of the site; however, D.B. Rogers of the Santa Barbara Museum of Natural History identified deposits from three prehistoric phases (Oak Grove, Hunting People, and Canalino).

In 1960, human remains representing a minimum of two individuals were removed from CA-SBA-38, overlooking Cieneguitas Creek at the west end of Santa Barbara, in Santa Barbara County, CA, during an archeological salvage project directed by William Harrison, as a result of bulldozing operations (Accession 131). No known individuals were identified. No associated funerary objects are present.

D.B. Rogers conducted surface reconnaissance and test trenching at site CA-SBA-38 between 1923 and 1924. At that time, Oak Grove and Canalino components were identified. The age of the human remains is unknown.

At an unknown date, human remains representing a minimum of one individual were removed possibly from CA-SBA-46, Santa Barbara County, CA. The attribution of the human remains to CA-SBA-46 is made based on its use in the Santa Barbara Museum of Natural History's Mescalitan Island (CA-SBA-46) diorama. The human remains were donated to the UCSB by the Santa Barbara Museum of Natural History at an unknown date (Accession 248-9). No known individual was identified. No associated funerary objects are present.

In 1961, human remains representing at least 10 individuals from Burials 1X, 2X, 3X, 1, 2, 3, 4, 5 and 6 were collected from three cemeteries (C, D, and H) at the south end of Mescalitan Island (CA-SBA-46), Santa Barbara County, CA, by James Deetz of the UCSB, and a student crew as part of a salvage archeological project (Accession 144). No known individuals were identified. The 419 associated funerary objects are 1 mortar, 2 ground stone objects, 5 cores, 30 flakes, 2 chert fragments, 1 basket stone, 2 basket stone fragments, 7 tarring pebbles, 4 water worn pebbles, 1 siltstone object, 8 olivella shell beads, 3 olivella shells, 13 undifferentiated shells, 257 glass trade beads (all blue), 10 whale bone fragments, 59 wood fragments, 13 asphaltum fragments, and 1 soil sample, which were all physically associated with Burial 1X, 2X, and 3X from Cemetery D and Burial 1, 2, 3, 4 and 5 from Cemetery C/H at the time of salvage.

Evidence from a number of archeological projects in the 20th century indicates that site CA-SBA-46 was occupied in all of the major periods of local prehistory from the Oak Grove period (prior to 3000 B.C.) up to the Historic period.

In 1969, human remains representing a minimum of 16 individuals were excavated from Cemetery “C” on Mescalitan Island (CA-SBA-46C), Santa Barbara County, CA, by a joint UCSB and University of California, Los Angeles, summer field school, directed by Claude Warren (Accession 177). No known individuals were identified. No associated funerary objects are present.

Although areas of Mescalitan Island were occupied throughout all periods of Santa Barbara prehistory, the human remains from Cemetery C (CA-SBA-46C) date to A.D. 1000-1150.

In 1985, human remains representing a minimum of one individual were removed from Cemetery “G” at Mescalitan Island (CA-SBA-46G) at the east end of Goleta Slough, Santa Barbara County, CA, by S.R.S., a private contract archeology firm (Accession 351). No known individual was identified. No associated funerary objects are present.

The date of site CA-SBA-46G is post-A.D. 0. The human remains were identified among mixed faunal remains.

In 1954, human remains representing a minimum of two individuals were removed from CA-SBA-48, on the UCSB campus on the edge of the Goleta Slough, Santa Barbara County, CA, by an unknown individual during the construction of the Biology Building. The human remains were donated to the Anthropology Department by the Chairman of the Biology Department (Accession 326). No known individuals were identified. No associated funerary objects are present.

The age of the human remains from site CA-SBA-48 is not known. Historic accounts identify the site as the location of the Babareno Chumash village of Heliyik.

In 1964, human remains representing a minimum of one individual were collected from CA-SBA-51, which is west of the Goleta Slough, Santa Barbara County, CA, by James Deetz of the University of California, Santa Barbara, and a student crew from a test pit at the site (Accession 156). No known individual was identified. No associated funerary objects are present.

In the 1970s, human remains representing a minimum of three individuals, two of which from Burial 2, were excavated from CA-SBA-51, which is west of the Goleta Slough, Santa Barbara County, CA, by Dr. Michael Glassow of the UCSB, and a student crew during field classes (Accession 181). No known individuals were identified. The eight associated funerary objects are one mano, one core, five flake tools, and one sea mammal calcaneus, which were all physically associated with Burial 2.

Site CA-SBA-51 is a permanent village site of some antiquity and does not appear to have been occupied during the Historic period. However, there are no radiocarbon dates available. The age of the human remains from CA-SBA-51 is not known.

In 1956 and 1957, human remains representing a minimum of 21 individuals from Burials 2, A, B, C, D, E, F, G, H, I, J, K, L, M, N, and O were removed from CA-SBA-53 at the west end of the Goleta Slough, in Santa Barbara County, CA. The human remains and associated funerary objects were collected by William Harrison and Norman Gabel of the UCSB during salvage operations associated with grading operations for the construction of buildings for the Aerophysics Corporation (Accession 101). No known individuals were identified. The 69 funerary objects are 6 manos, 2 mano fragments, 4 pestles, 1 mortar, 2 “killed” mortars, 7 mortar fragments, 1 bifacial metate, 1 “killed” metate, 24 metate fragments, 2 hammerstones, 3 ground stone objects, 1 rubbing stone, 1 fire-affected rock, 2 scraper fragments, 2 flaked stone objects, 1 side notched blade fragment, 2 choppers, 1 grooved stone object, 1 rim fragment from a polished stone vessel, 1 flake, 1 bone fragment, 1 unmodified bone, 1 unmodified shell, and 1 fish vertebra, which were all physically associated with Burials A, B, C, E, H, J, K, L, N, and O at the time of salvage.

Three radiocarbon dates from site CA-SBA-53 indicate its occupation between 3030—2670 B.C., which implies an Early period date for the human remains.

At an unknown date, human remains representing a minimum of two individuals were removed from an unknown location. During an unknown year, the UCSB came into possession of the human remains. No original documentation exists for this collection. No known individuals were identified. No associated funerary objects are present.

The age of the human remains is unknown, but the preponderance of the evidence suggests that these remains are culturally affiliated with the Chumash, as one bone is labeled with the SBA-60 182-series number. This may indicate that the human remains derive from the larger collection from that site. Therefore, the preponderance of the evidence suggests that the human remains are culturally affiliated with the Chumash.

At an unknown date, human remains representing a minimum of four individuals were removed from an unknown location. During an unknown year, the UCSB came into possession of the human remains. No original documentation exists, but the tray in which the human remains were found contained a fragment of paper labeled “burial #1.” In the same tray as these bones were several other bones that were labeled 182 (from SBA-60). These labeled bones were removed. These unlabeled remains do not have a known provenience, but likely may also be from site CA-SBA-60, Santa Barbara County, CA. No known individuals were identified. No associated funerary objects are present.

The age of the unlabeled human remains is unknown. However, although the human remains lack provenience information, considering the nature of most of the UCSB's collection and their placement in the same tray as other bones labeled as CA-SBA-60, it is unlikely that the human remains are derived from a non-Chumash site. Therefore, the preponderance of the evidence suggests that the human remains are culturally affiliated with the Chumash.

At an unknown date, human remains representing a minimum of seven individuals were removed from an unknown location, but possibly site CA-SBA-60, Santa Barbara County, CA. During an unknown year, the UCSB came into possession of the human remains. No original documentation accompanies the human remains. No known individuals were identified. No associated funerary objects are present.

Museum records indicate that the human remains may derive from the large SBA-60 collection. Five bones are labeled with 182 series numbers indicating association with the SBA-60 collection, but the majority of the human remains are unlabelled and therefore, clear association of the collections is impossible to verify. Although the human remains lack provenience information, considering the nature of the most of the UCSB's collection, it is unlikely that the human remains are derived from a non-Chumash site. Therefore, the preponderance of the evidence suggests that the human remains are culturally affiliated with the Chumash.

At an unknown date, human remains representing a minimum of one individual were removed from an unknown location, but possibly site CA-SBA-60, Santa Barbara County, CA. During an unknown year, the UCSB came into possession of the human remains. No original documentation exists for this collection, but a note (most likely written by Repository staff) indicates that the collection 'may' derive from the large SBA-60 collection housed at the UCSB. No known individual was identified. No associated funerary objects are present.

Although the collection lacks provenience information, considering the nature of most of the UCSB's collection, it is unlikely that the human remains are derived from non-Chumash sites. Therefore, the preponderance of the evidence suggests that the human remains are culturally affiliated with the Chumash.

At an unknown date, human remains representing a minimum of four individuals were removed from an unknown location, but possibly site CA-SBA-60, Santa Barbara County, CA. During an unknown year, the UCSB came into possession of the human remains. No original documentation exists for the collection, but it may derive from the large SBA-60 collection. No known individuals were identified. No associated funerary objects are present.

Although the collection lacks provenience information, considering the nature of most of the UCSB's collection, it is unlikely that the human remains are derived from non-Chumash sites. Therefore, the preponderance of the evidence suggests that the human remains are culturally affiliated with the Chumash. The age of the human remains is unknown.

In 1963, human remains representing a minimum of one individual were excavated from CA-SBA-60 at the west end of the Goleta Slough, Santa Barbara County, CA. It is believed that the burial was excavated by Humphrey during a UCSB field school project (Accession 127). The age of the human remains is post-A.D. 1500. No known individual was identified. No associated funerary objects are present.

In 1968, human remains representing a minimum of 140 individuals were excavated at CA-SBA-60 on the north end of the Goleta Slough, Santa Barbara County, CA, during salvage excavations associated with ground leveling activities for a construction yard (Accession 182). Excavation was undertaken by Claude Warren of the UCSB and a student crew, as well as by the Santa Barbara County Archaeological Society. No known individuals were identified. No associated funerary objects are present.

Site CA-SBA-60 is the location of the former Barbareno Chumash town of S'axpilil. The mention of this large village site in historic accounts and the presence of Historic period artifacts, such as shell and glass beads, indicate that this site was occupied during the later part of the Prehistoric and Historic periods (post-A.D. 1500). The presence of earlier projectile points on the site may indicate a component as early as the later Middle period. There was a large collection of funerary objects (approximately 229 funerary objects) excavated from CA-SBA-60. These objects were originally curated by the Santa Barbara Archaeological Society's Museum of Early Man. After the museum dissolved, the collection was donated to the Quabajai Chumash Indian Association, who placed it on loan to the UCSB in the 1960s. Therefore, these funerary objects are not in the control of the UCSB.

In 1971, human remains representing a minimum of 33 individuals from Burials 1-27 were excavated from site CA-SBA-71, west of Santa Barbara, Santa Barbara County, CA, by Claude Warren of the UCSB and a student crew, as part of a field school project (Accession 185 & 187). The human remains were excavated from disturbed, primary burials. No known individuals were identified. The 355 associated funerary objects are 8 stone artifacts, 6 stone scrapers, 1 siltstone scraper, 6 stone projectile points, 1 stone graver, 2 cores, 76 stone flakes, 3 utilized flakes, 1 worked flake, 1 encrusted metate, 3 sandstone cobbles, 22 tarring pebbles, 3 asphaltum fragments, 1 abalone shell, 1 clam shell, 77 shell fragments, 118 shell beads, 7 shell pendants, 1 shell fish hook fragment, 1 whale bone fragment, 2 glass fragments, 1 iron fragment, 8 metal nails, 3 iron staples, 1 fragment of wire, and 1 fragment of carbonized wood, which were all physically associated with Burials 2, 5, 6, 7, 8, 11, 12, 13, 14, 15, 22, 24, 25, 26, and 27 at the time of excavation.

Site CA-SBA-71 was a heavily potted site. The association of metal and glass with the burials is due to site disturbance. Radiocarbon dates from this site date its occupation to the Middle period (160 B.C.-A.D. 160).

In 1968, human remains representing a minimum of two adult individuals were collected from an open grave on Santa Rosa Island, Santa Barbara County, CA, by an unknown individual (Accession 248-27). No known individuals were identified. No associated funerary objects are present.

The age of the human remains is unknown. Considering the nature of most of the UCSB's collection, it is unlikely that the human remains are derived from a non-Chumash site. Therefore, the preponderance of the evidence suggests that the human remains are culturally affiliated with the Chumash.

At an unknown date, human remains representing a minimum of one individual were removed from an unknown location. In 1983, the human remains were anonymously donated to the UCSB (Accession 248-19). A note with the human remains states that they were “Found in graveyard in southern California near Vandenberg.” No known individual was identified. No associated funerary objects are present.

The age of the human remains is not known. Although the collection lacks precise provenience information, considering the nature of most of the UCSB's collection, it is unlikely that the human remains are derived from a non-Chumash site. Therefore, the preponderance of the evidence suggests that the human remains are culturally affiliated with the Chumash.

In 1985, human remains representing a minimum of one individual were found and collected from an unknown site northeast of Diablo Peak on Santa Cruz Island, Santa Barbara County, CA, by Robert Peterson (Accession 248-33). No known individual was identified. No associated funerary objects are present.

Although the collection lacks precise provenience information, considering the nature of most of the UCSB's collection, it is unlikely that the human remains are derived from a non-Chumash site. Therefore, the preponderance of the evidence suggests that the human remains are culturally affiliated with the Chumash. The age of the human remains is not known.

At an unknown date, human remains representing a minimum of one individual were removed from an eroding sea cliff at CA-SBA-1494 at the mouth of Bulito Canyon, Hollister Ranch, Santa Barbara County, CA, by an unknown person. During an unknown year, the UCSB came into the possession of the human remains (Accession 250-215). No known individual was identified. No associated funerary objects are present.

Site CA-SBA-1494 is a medium sized Historic period village, indicating occupation during the Historic period. One radiocarbon date from the site (A.D. 610) also dates a component to the Middle period.

In 1983, human remains representing a minimum of one individual were collected from the surface of CA-SBA-75, Tecolote Canyon, Santa Barbara County, CA, by Jon Erlandson during an assessment of cultural resources associated with the proposed Hyatt Regency Resort and Hotel (Accession 328). The remains were recovered from a surface-collected faunal sample. No known individual was identified. No associated funerary objects are present.

Radiocarbon dates collected from site CA-SBA-75 indicate that it was occupied between 4115—3360 B.C.

Between 1950 and 1952, human remains representing a minimum of 18 individuals from Burials 1-3, 5-12, X1/13, X3/15, X4/16, 18, 20, 23, and 34 were excavated from primary burial contexts at CA-SBA-485 at the south end of Lake Cachuma, Santa Barbara County, CA, by Martin Baumhoff from the University of California, Berkeley, under the auspices of the River Basin Surveys of the Smithsonian Institute (Accession 261). No known individuals were identified. The 46 associated funerary objects are 13 olivella shell beads, 17 limpet shell beads, 6 cowry shell beads, 1 limpet shell ornament, 3 limpet shell fragments, 1 pismo clam shell, 1 abalone shell dish, 2 manos, 1 metate fragment, 1 stone projectile point, which were all physically associated with Burials X1/13, X3/15, X4/16, 1, 3, 10 and 11 at the time of excavation.

In 1965, human remains representing a minimum of five individuals from Burials 1-5 were excavated from CA-SBA-485 at the south end of Lake Cachuma, Santa Barbara County, CA, as part of a field school excavation by Jay Rub, UCSB, and a student crew (Accession 158). No known individuals were identified. The 25 associated funerary objects are 1 metate fragment, 2 mano fragments, 1 chert projectile point, 1 chert knife, 1 chert scraper, 4 chert cores, 12 utilized flakes, 2 retouched flakes, and 1 clam shell ornament, which were all physically associated with the burials, which were all physically associated with Burial 4 and Burial 5 at the time of excavation.

No radiocarbon dates are available for site CA-SBA-485. Historic accounts do indicate that it was occupied by the Chumash during the Mission period (A.D. 1782-1834). The presence of certain shell artifacts recovered during excavation also indicate a Late period occupation (post-A.D. 1150), and some projectile point evidence may point to a more debatable Middle period component (1400 B.C.-A.D. 1150).

In 1958-1959, human remains representing a minimum of one individual were collected from the surface of CA-SBA-78, Dos Pueblos Ranch, Santa Barbara County, CA, by William Harrison during his field school excavations (Accession 164). No known individual was identified. No associated funerary objects are present.

In 1958-1959, human remains representing a minimum of 17 individuals were removed from CA-SBA-78 at the mouth of Dos Pueblos Canyon, Dos Pueblos Ranch, Santa Barbara County, CA, during excavations by William Harrison, UCSB, and a student crew, as part of a summer field school with the permission of the private land owner (Accession 117). No known individuals were identified. No associated funerary objects are present.

Site CA-SBA-78 is the location of one of the largest Historic period villages in the region. Radiocarbon dates from this site, Mikiw, indicate a long occupation history beginning as early as 5000 B.C. and culminating in the Historic period.

In 1961, human remains representing a minimum 12 individuals representing two discrete burial (Burial 1 and 2) and many human bone fragments that could not be associated with a single burial from CA-SBA-167 in the Santa Ynez Valley, Santa Barbara County, CA, by James Deetz, UCSB, and a student crew, during a summer field school with permission of the private land owner (Accession 140). No known individuals were identified. The approximately 1,104 associated funerary objects are 1 chert projectile point (Cottonwood Type), 1 chert fragment, 1 worked stone fragment, approximately 1,000 Olivella shell beads, approximately 2 bead fragments (asphaltum staining), 9 steatite beads, 1 blue glass bead, 82 glass trade beads, 1 glass trade bead fragment, 1 bone bead, 1 unmodified bone fragment, and 4 charcoal fragments, which were all physically associated with Burial 1 and Burial 2 at the time of excavation.

Site CA-SBA-167 is located in the Historic period village of Soxtonokmu' (SBA-167). Although no radiocarbon dates are available from this site, its presence in historic documents lead Dr. John Johnson, Santa Barbara Museum of Natural History, to believe that the site dates to the Late period (after A.D. 1150). It is evident from historic documents and the presence of post-European artifacts that the site was occupied after A.D. 1782.

In 1970, human remains representing a minimum of four individuals were removed from CA-SCRI-236 at Christy Ranch, Santa Cruz Island, Santa Barbara County, CA, during excavations by Glassow, UCSB, with permission of the private land owner (Accession 186). No known individuals were identified. No associated funerary objects are present.

Radiocarbon dates from site CA-SCRI-236 indicate at least intermittent occupation from as early as 2485 B.C. into the Late period.

In 1973, human remains representing a minimum of two individuals from Burials 1 and 2 were excavated from disturbed areas of CA-SCRI-163, Stanton Ranch, Santa Cruz Island, Santa Barbara County, CA, during salvage excavations by Glassow and Albert Spaulding with the permission of the private land owner in the first year of the Santa Cruz Island Project, which was funded by the National Science Foundation (Accession 211). The human remains were excavated during salvage work in disturbed areas of the site. No known individuals were identified. The 36 associated funerary objects are 1 doughnut stone, 1 chert projectile point, 1 chert borer, 3 flake tools, 29 olivella shell beads, and 1 unmodified mammal bone, which were all physically associated with Burial 1 and Burial 2 at the time of excavation.

The age of the human remains is not known. Site CA-SCRI-163 is a prehistoric midden located adjacent to the upper winery on the Stanton Ranch.

In 1973, human remains representing a minimum of six individuals were collected from an eroding hillside at site CA-SCRI-381, Santa Cruz Island, Santa Barbara County, CA, by Glassow with the permission of the private land owner (Accession 211). No known individuals were identified. No associated funerary objects are present.

The age of the human remains from site CA-SCRI-381 is not known. Site CA-SCRI-381 is a prehistoric midden located on the west side of Platts Harbor.

In 1973-1974, human remains representing a minimum of seven individuals were collected from CA-SCRI-240 at Prisoner's Harbor on the north shore of Santa Cruz Island, Santa Barbara County, CA. The Santa Cruz Island Project excavation was funded by the National Science Foundation. The excavation was done with the permission of the private land owner, and co-directed by Glassow and Spaulding, UCSB (Accession 211). The human remains originated in both burial and non-burial contexts, and were collected from an eroding stream bank at the site. No known individuals were identified. No associated funerary objects are present.

In 1974, human remains representing a minimum of 11 individuals from Burials 1 and 2 as well as from non-burial contexts were excavated from CA-SCRI-240 on the north shore of Santa Cruz Island at Prisoner's Harbor, Santa Barbara County, CA, by Spaulding, UCSB, as part of the Santa Cruz Island Project, with the permission of the private land owner (Accession 206). No known individuals were identified. The 1,421 associated funerary objects are 1 donut stone, 1 steatite bead, 6 hammerstones, 1 projectile point, 33 chert borers, 17 cores, 23 bladelet cores, 510 flakes, 50 flake tools, 195 bladelets, 28 chert blades, 5 tarring pebbles, 1 hematite nodule, 18 asphaltum nodules, 1 shell fishhook, 405 shell beads, 1 bone tool, 3 modified bones, 106 unmodified mammal bones, and 16 unmodified fish bones, which were all physically associated with Burials 1, 2, 3, and Feature 3 Infant Burial, Feature 5 Burial, Feature 6 Burial, Feature 7 Burial and Feature 9 Burial at the time of excavation.

Radicarbon dates obtained from site CA-SCRI-240 document its occupation between 2480 B.C. and A.D. 1425, and indicate that it may be the location for the Cruzeno Chumash village of Kaxas. Its presence in historic documents also indicates that it was occupied into the Historic period.

In 1973-1974, human remains representing a minimum of two individuals were collected from an unspecified location or locations on Santa Cruz Island, Santa Barbara County, CA, by Glassow, UCSB, and a student crew, as part of the Santa Cruz Island Project, with the permission of the private land owner (Accession 201-31 & 201-49). No known individuals were identified. No associated funerary objects are present. The age of the human remains is not known. Although the collection lacks specific provenience information, considering the nature of most of the UCSB's collection, it is unlikely that the human remains are derived from non-Chumash sites. Therefore, the preponderance of the evidence suggests that the human remains are culturally affiliated with the Chumash.

In 1974, human remains representing a minimum of seven individuals were excavated from secondary burial contexts at CA-SCRI-328 near Forney Cove on the west end of Santa Cruz Island, Santa Barbara County, CA, by Steve Horne, a UCSB graduate student, with the permission of the private land owner. The excavation occurred as part of the Santa Cruz Island Project, and was co-directed by Spaulding and Glassow (Accession 209). No known individuals were identified. No associated funerary objects are present.

Radiocarbon dates obtained from site CA-SCRI-328 indicate its occupation was between A.D. 1470 and A.D. 1800. The presence of glass beads within the deposits also indicates occupation during Late and Historic periods.

Between 1974 and 1979, human remains representing a minimum of 15 individuals were excavated from CA-SBA-143 on the grounds of Dos Pueblos High School in Goleta, Santa Barbara County, CA, by archeology classes of the Don Pueblo High School (Accession 320). No known individuals were identified. No associated funerary objects are present.

The human remains were probably originally from primary burial contexts. Radiocarbon dates indicate the occupation of site CA-SBA-143 was during the Early period (4650-2870 B.C.).

At an unknown date, human remains representing a minimum of two individuals were removed from the Christie Ranch bunkhouse on the western end of Santa Cruz Island, Santa Barbara County, CA, by ranch hands. In 1976, the human remains were acquired by the UCSB (Accession 211-112). The age of the human remains is unknown. No known individuals were identified. No associated funerary objects are present.

Although the collection lacks specific provenience information, considering the nature of most of the UCSB's collection, it is unlikely that the human remains are derived from non-Chumash sites. Therefore, the preponderance of the evidence suggests that the human remains are culturally affiliated with the Chumash.

In 1976, human remains representing a minimum of one individual were collected from the surface of CA-SCRI-382 at Platts Harbor on the north coast of Santa Cruz Island, Santa Barbara County, CA, by Glassow, UCSB, with the permission of the private land owner (Accession 211). At the same time, human remains representing a minimum of one individual recently collected from the surface of CA-SCRI-382 at Platts Harbor on the north coast of Santa Cruz Island, Santa Barbara County, CA, were turned over to Glassow, UCSB, by a recreational boater (Accession 211). No known individuals were identified. No associated funerary objects are present.

Site CA-SCRI-382 is a prehistoric midden deposit located on a steep slope on the west side of Platts Harbor. It is located close to site CA-SCRI-381.

In 1984, human remains representing a minimum of one individual were removed from site CA-SBA-1826 on Santa Agueda Creek, Santa Barbara County, CA, by Dr. P. Walker and the Santa Barbara County Coroner (Accession 521). No known individual was identified. No associated funerary objects are present.

The human remains were identified eroding from the creek bank by the land owner. Initially believed to have been modern, they were ultimately identified as prehistoric. However, the age of the human remains from site CA-SBA-1826 is unknown. The site is within the historically documented geographic area of the Santa Ynez Band of the Mission Indians and the territory occupied by Chumash speakers at the time of European Contact. Therefore, the preponderance of the evidence suggests that the human remains are culturally affiliated with the Chumash.

Determinations Made by the University of California, Santa Barbara

Officials of the UCSB have determined that:

• Pursuant to 25 U.S.C. 3001(9), the human remains described above represent the physical remains of 395 individuals of Native American ancestry.

• Pursuant to 25 U.S.C. 3001(3)(A), the 3,985 objects described above are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Representatives of any other Indian tribe that believes itself to be culturally affiliated with the human remains and associated funerary objects should contact Dr. Lynn Gamble, University of California, Santa Barbara, Santa Barbara, CA 93106-3210, telephone (805) 893-7341, before July 12, 2012. Repatriation of the human remains and associated funerary objects to the Santa Ynez Band of Chumash Mission Indians of the Santa Ynez Reservation, California, may proceed after that date if no additional claimants come forward.

The UCSB is responsible for notifying the Santa Ynez Band of Chumash Mission Indians of the Santa Ynez Reservation, California, that this notice has been published.

Dated: June 7, 2012.
David Tarler,
Acting Manager, National NAGPRA Program.

[FR Doc. 2012-14290 Filed 6-11-12; 8:45 am]

BILLING CODE 4312-50-P